DEPARTMENT OF LABOR

Employment and Training Administration

[TA-W-80,275]

Pfizer Therapeutic Research, Formerly Known as Warner Lambert Company, Pfizer Worldwide Research & Development Division, Antibacterials Research Unit, Pharmacokinetics, Dynamics and Metabolism Department, Antibacterial Chemistry Department, Analytical Chemistry and Material Management Department Groton, CT; Amended Certification Regarding Eligibility To Apply for Worker Adjustment Assistance

In accordance with Section 223 of the Trade Act of 1974, as amended (“Act”), 19 U.S.C. 2273, the Department of Labor (Department) issued a Revised Determination of Reconsideration of Eligibility to Apply for Worker Adjustment Assistance on December 2, 2011, applicable to workers of Pfizer Therapeutic Research, Pfizer Worldwide Research & Development Division, Antibacterial Research Unit, Groton, Connecticut (Pfizer-ARU).

At the request of the state workforce office, the Department reviewed the certification for workers of Pfizer-ARU.

The Department has determined that other units at the Groton, Connecticut facility operate in conjunction with Pfizer-ARU and have experienced worker separations related to the shift of in the supply of services to a foreign country.

In order to ensure proper worker group coverage, the Department is amending the worker group identified in the certification for TA-W-80,275 to include the Pharmacokinetics, Dynamics and Metabolism Department, Antibacterial Chemistry Department, and Analytical Chemistry and Material Management Department located in Groton, Connecticut.

The amended notice applicable to TA-W-80,275 is hereby issued as follows:

All workers of Pfizer Therapeutic Research, formerly known as Warner Lambert Company, Pfizer Worldwide Research & Development Division, Antibacterial Research Unit, Pharmacokinetics, Dynamics and Metabolism Department, Antibacterial Chemistry Department, and Analytical Chemistry and Material Management Department, Groton, Connecticut, who became totally or partially separated from employment on or after July 8, 2010 through December 2, 2013, and all workers in the group threatened with total or partial separation from employment on the date of certification through two years from the date of certification, are eligible to apply for adjustment assistance under Chapter 2 of Title II of the Trade Act of 1974, as amended.

Signed in Washington, DC, this 25th day of May, 2012.
Del Min Amy Chen,
Certifying Officer, Office of Trade Adjustment Assistance.

[FR Doc. 2012-14195 Filed 6-11-12; 8:45 am]

BILLING CODE 4510-FN-P